FEDERAL MARITIME COMMISSION

[Docket No. 00-11]

New Orleans Stevedoring Co. v. Board of Commissioners, Port of New Orleans; Notice of Filing of Complaint and Assignment

Notice is given that a complaint was filed by New Orleans Stevedoring Company, a division of James J. Flanagan Shipping Corporation, (“Complainant”) against the Board of Commissioners of the Port of New Orleans (“Respondent”). Complainant alleges that Respondent violated the Shipping Act of 1984 (“Shipping Act”) by unreasonably refusing to deal or negotiate with Complainant and by giving undue and unreasonable preference and advantage to Complainant's competitors and by inflicting undue and unreasonable prejudice and disadvantage upon Complainant in connection with the use of marine terminal facilities in New Orleans.

Complainant asks that the Respondent be made to answer these charges, and that after due hearing, an order be made commanding the Respondent to cease and desist from these violations; to establish and put in force such practices as the Commission determines to be lawful and reasonable; to pay Complainant by way of reparations $1,000,000 plus such additional damages as may be proved, together with interest and attorney fees, or such other sum as the Commission may determine to be proper as reparation.

This proceeding has been assigned to the office of Administrative Law Judges. Hearing in this matter, if any is held, shall commence within the time limitations prescribed in 46 CFR 502.61, and only after consideration has been given by the parties and the presiding officer to the use of alternative forms of dispute resolution. The hearing shall include oral testimony and cross-examination in the discretion of the presiding officer only upon proper showing that there are genuine issues of material fact that cannot be resolved on the basis of sworn statements, affidavits, depositions, or other documents or that the nature of the matter in issue is such that an oral hearing and cross-examination are necessary for the development of an adequate record. Pursuant to the further terms of 46 CFR 502.61, the initial decision of the presiding officer in this proceeding shall be issued by October 1, 2001, and the final decision of the Commission shall be issued by January 29, 2002.

Theodore A. Zook,
Assistant Secretary.

[FR Doc. 00-25478 Filed 10-3-00; 8:45 am]

BILLING CODE 6730-01-P